DEPARTMENT OF THE INTERIOR

Bureau of Land Management

[LLWY-957400-13-L14200000-BJ0000-LXSITRST0000]

Filing of Plats of Survey, Wyoming

AGENCY: Bureau of Land Management, Interior.

ACTION: Notice.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of a portion of the west boundary of the Wind River Indian Reservation and the subdivisional lines, and the metes-and-bounds survey of Tract 37, Township 5 North, Range 6 West, Wind River Meridian, Wyoming, Group No. 846, was accepted September 26, 2012.

Copies of the preceding described plat and field notes are available to the public at a cost of $1.10 per page.

Dated: September 28, 2012.
John P. Lee,
Chief Cadastral Surveyor, Division of Support Services.

[FR Doc. 2012-24506 Filed 10-3-12; 8:45 am]

BILLING CODE 4310-22-P